DEPARTMENT OF EDUCATION

Office of Postsecondary Education; Solicitation of Third-Party Comments Concerning the Performance of Accrediting Agencies

AGENCY: Office of Postsecondary Education, Department of Education.

ACTION: Call for written third-party comments; extension of comment period.

SUMMARY: On January 24, 2018, we published in the Federal Register a notice of a call for written third-party comments. That notice provided information to members of the public on submitting written comments with respect to accrediting agencies currently undergoing review for purposes of recognition by the Secretary of Education. That notice established a comment period beginning on January 24, 2018, and closing on February 16, 2018. Pursuant to a recent court order, we are extending the public comment period until March 1, 2018, for the submission of comments on the application of the Accrediting Council for Independent Colleges and Schools (ACICS) for initial recognition and the compliance report submitted by the American Bar Association (ABA).

DATES: The comment period for the notice published January 24, 2018 (83 FR 3335), is extended. We must receive your comments on or before March 1, 2018.

ADDRESSES: Written comments about the initial application for recognition of ACICS or the ABA compliance report must be received by March 1, 2018, in the ThirdPartyComments@ed.gov mailbox and include the subject line “Written Comments: (agency name).”

FOR FURTHER INFORMATION CONTACT: Herman Bounds, Director, Accreditation Group, Office of Postsecondary Education, U.S. Department of Education, 400 Maryland Avenue SW, Room 270-01, Washington, DC 20202, telephone: (202) 453-7615, or email: herman.bounds@ed.gov.

If you use a telecommunications device for the deaf or a text telephone, call the Federal Relay Service, toll free, at 1-800-877-8339.

SUPPLEMENTARY INFORMATION:

Background: On January 24, 2018, we published in the Federal Register (83 FR 3335) a notice of a call for written third-party comments with respect to accrediting agencies currently undergoing review for purposes of recognition by the Secretary of Education. Under that notice, the public comment period closes on February 16, 2018. On February 15, 2018, the U.S. District Court for the Southern District of New York ordered the Department of Education to extend the comment period to March 1, 2018, for comments on the initial application for recognition of ACICS and the compliance report submitted by the ABA. (See The Century Foundation v. Betsy Devos, case number 18-cv-1128).

Accessible Format: Individuals with disabilities can obtain this document in an accessible format (e.g., braille, large print, audiotape, or compact disc) on request to the contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF, you must have Adobe Acrobat Reader, which is available free at this site.

You may also access documents of the Department published in the Federal Register by using the article search feature at: www.federalregister.gov. Specifically, through the advanced search feature at this site, you can limit your search to documents published by the Department.

Dated: February 16, 2018.
Frank T. Brogan,
Principal Deputy Assistant Secretary and delegated the duties of the Assistant Secretary, Office of Planning, Evaluation and Policy Development Delegated the duties of the Assistant Secretary, Office of Postsecondary Education.

[FR Doc. 2018-03686 Filed 2-16-18; 4:15 pm]

BILLING CODE 4000-01-P